DEPARTMENT OF ENERGY

Office of Energy Efficiency and Renewable Energy

[Case No. CAC-030]

Decision and Order Granting a Waiver to Mitsubishi Electric & Electronics USA, Inc. From the Department of Energy Commercial Package Air Conditioner and Heat Pump Test Procedures

AGENCY: Office of Energy Efficiency and Renewable Energy, Department of Energy.

ACTION: Decision and Order.

SUMMARY: This notice publishes the U.S. Department of Energy's (DOE) Decision and Order in Case No. CAC-030, which grants Mitsubishi Electric & Electronics USA, Inc. (Mitsubishi) a waiver from the existing DOE test procedures applicable to commercial package air-source and water-source central air conditioners and heat pumps. The waiver is specific to indoor units of the Mitsubishi variable capacity CITY MULTI WR2 and WY Series and CITY MULTI S&L Class multi-split commercial heat pumps. As a condition of this waiver, Mitsubishi must use the alternate test procedure set forth in this notice to test and rate its WR2 and WY Series and S&L Class CITY MULTI multi-split commercial heat pumps.

DATES: This Decision and Order is effective July 11, 2011.

FOR FURTHER INFORMATION CONTACT: Dr. Michael G. Raymond, U.S. Department of Energy, Building Technologies Program, Mailstop EE-2J, 1000 Independence Avenue, SW., Washington, DC 20585-0121. Telephone: (202) 586-9611. E-mail: Michael.Raymond@ee.doe.gov.

Ms. Jennifer Tiedeman, U.S. Department of Energy, Office of the General Counsel, Mail Stop GC-71, Forrestal Building, 1000 Independence Avenue, SW., Washington, DC 20585-0103. Telephone: (202) 287-6111. E-mail: mailto:Jennifer.Tiedeman@hq.doe.gov.

SUPPLEMENTARY INFORMATION: In accordance with Title 10 of the Code of Federal Regulations (10 CFR) 431.401(f)(4), DOE is providing notice of the issuance of the Decision and Order set forth below. In this Decision and Order, DOE grants Mitsubishi a waiver from the existing DOE commercial package air conditioner and heat pump test procedures for specific indoor units of its CITY MULTI WR2 and WY Series and CITY MULTI S&L Class multi-split commercial heat pumps. The waiver requires Mitsubishi use the alternate test procedure provided in this notice to test and rate the specified models of indoor units from its CITY MULTI WR2 and WY Series and CITY MULTI S&L Class multi-split equipment line (as identified below).

Today's decision prohibits Mitsubishi from making any representations concerning the energy efficiency of this equipment unless the equipment has been tested consistent with the provisions and restrictions in the alternate test procedure set forth in the Decision and Order below, and the representations fairly disclose the test results. (42 U.S.C. 6314(d)) Distributors, retailers, and private labelers are held to the same standard when making representations regarding the energy efficiency of this equipment. Id.

Issued in Washington, DC, on July 5, 2011.
Kathleen Hogan,
Deputy Assistant Secretary for Energy Efficiency, Office of Technology Development, Energy Efficiency and Renewable Energy.

Decision and Order

In the Matter of: Mitsubishi Electric & Electronics USA, Inc. (Mitsubishi) (Case No. CAC-030).

Background

Title III, Part C of the Energy Policy and Conservation Act of 1975 (EPCA), Public Law 94-163 (42 U.S.C. 6311-6317, as codified, added by Public Law 95-619, Title IV, 441(a), established the Energy Conservation Program for certain industrial equipment, which includes commercial air conditioning equipment, package boilers, water heaters, and other types of commercial equipment, the focus of this notice.¹

¹ For editorial reasons, upon codification in the U.S. Code, Part C was re-designated Part A-1.

Part C specifically includes definitions (42 U.S.C. 6311), test procedures (42 U.S.C. 6314), labeling provisions (42 U.S.C. 6315), energy conservation standards (42 U.S.C 6313), and the authority to require information and reports from manufacturers (42 U.S.C. 6316). With respect to test procedures, Part C authorizes the Secretary of Energy (the Secretary) to prescribe test procedures that are reasonably designed to produce results that measure energy efficiency, energy use, and estimated annual operating costs, and that are not unduly burdensome to conduct. (42 U.S.C. 6314(a)(2))

For commercial package air-conditioning and heating equipment, EPCA provides that “the test procedures shall be those generally accepted industry testing procedures or rating procedures developed or recognized by the Air-Conditioning and Refrigeration Institute [ARI] or by the American Society of Heating, Refrigerating and Air-Conditioning Engineers [ASHRAE], as referenced in ASHRAE/IES Standard 90.1 and in effect on June 30, 1992.” (42 U.S.C. 6314(a)(4)(A)) Under 42 U.S.C. 6314(a)(4)(B), if the industry test procedure for commercial package air-conditioning and heating equipment is amended, EPCA directs the Secretary to amend the corresponding DOE test procedure unless the Secretary determines, by rule and based on clear and convincing evidence, that such a modified test procedure does not meet the statutory criteria set forth in 42 U.S.C. 6314(a)(2) and (3).

On December 8, 2006, DOE published a final rule adopting test procedures for commercial package air-conditioning and heating equipment, effective January 8, 2007. 71 FR 71340. Table 1 to Title 10 of the Code of Federal Regulations (10 CFR) 431.96 directs manufacturers of commercial package air conditioning and heating equipment to use the appropriate procedure when measuring energy efficiency of this equipment. For small commercial packaged water-source heat pumps with capacities less than 135,000 Btu/h, ISO Standard 13256-1 (1998) is the applicable test procedure. For commercial package air-source equipment with capacities between 65,000 and 760,000 Btu/h, ARI Standard 340/360-2004 is the applicable test procedure.

DOE's regulations for covered products and equipment permit a person to seek a waiver from the test procedure requirements for covered commercial equipment if at least one of the following conditions is met: (1) The petitioner's basic model contains one or more design characteristics that prevent testing according to the prescribed test procedures; or (2) the prescribed test procedures may evaluate the basic model in a manner so unrepresentative of its true energy consumption as to provide materially inaccurate comparative data. 10 CFR 431.401(a)(1). Petitioners must include in their petition any alternate test procedures known to the petitioner to evaluate the basic model in a manner representative of its energy consumption. 10 CFR 431.401(b)(1)(iii). The Assistant Secretary for Energy Efficiency and Renewable Energy (Assistant Secretary) may grant a waiver subject to conditions, including adherence to alternate test procedures. 10 CFR 431.401(f)(4). Waivers remain in effect pursuant to the provisions of 10 CFR 431.401(g).

The waiver process also permits parties submitting a petition for waiver to file an application for interim waiver of the applicable test procedure requirements. 10 CFR 431.401(a)(2). The Assistant Secretary will grant an interim waiver request if it is determined that the applicant will experience economic hardship if the application for interim waiver is denied, if it appears likely that the petition for waiver will be granted, and/or the Assistant Secretary determines that it would be desirable for public policy reasons to grant immediate relief pending a determination on the petition for waiver. 10 CFR 431.401(e)(3). An interim waiver remains in effect for 180 days or until DOE issues its determination on the petition for waiver, whichever occurs first. It may be extended by DOE for an additional 180 days. 10 CFR 431.401(e)(4).

On December 15, 2009, DOE granted Mitsubishi waivers from the DOE commercial air conditioner and heat pump test procedures for Mitsubishi's CITY MULTI WR2 and WY Series equipment and its CITY MULTI S&L Class equipment. 74 FR 66311; 74 FR 66315. On February 18, 2011, Mitsubishi submitted a petition for waiver, listing additional models of indoor units used in these multi-split systems. The petition includes indoor models in existing model families that have capacities not previously offered, as well as new indoor model families to be used with the systems. These additional indoor models face the same testing challenges as the models already covered by the previous CITY MULTI WR2 and WY Series waiver and the CITY MULTI S&L Class waiver. On April 6, 2011, DOE published Mitsubishi's petition for waiver in the Federal Register, and requested interested parties to comment. 76 FR 19078. No comments were received.

Assertions and Determinations

Mitsubishi's Petition for Waiver

Mitsubishi seeks a waiver from the applicable test procedures under 10 CFR 431.96 on the grounds that its new CITY MULTI WR2 and WY Series and S&L Class multi-split heat pumps contain design characteristics that prevent testing according to the current DOE test procedures. Specifically, Mitsubishi asserts that existing testing facilities have limited ability to test multiple indoor units at one time, and that the large number of possible combinations of indoor and outdoor units is impractical to test. DOE previously granted the CITY MULTI WR2 and WY Series and the CITY MULTI S&L Class equipment waivers on that basis. The additional indoor models that are the subjects of this petition would be used just as the equipment covered by the previous CITY MULTI WR2 and WY Series waiver and the CITY MULTI S&L Class waiver, and thus present exactly the same testing challenges.

As DOE found in its grants of the CITY MULTI WR2 and WY Series waiver and the CITY MULTI S&L Class waiver, indoor models are not the primary efficiency drivers for these systems; rather, the primary efficiency drivers are the outdoor units. Mitsubishi is not requesting a waiver for any new outdoor units. The new indoor units described above will be combined with the outdoor unit models covered by the prior waivers to create additional multi-split systems.

Both the CITY MULTI WR2 and WY Series waiver and the CITY MULTI S&L Class waiver prescribed alternate test procedures pursuant to which Mitsubishi tests and rates its WR2 and WY Series and S&L class equipment. No changes to those alternate test procedures are needed to cover the additional indoor units that are the subjects of Mitsubishi's current petition. Therefore, Mitsubishi has requested that the additional indoor units considered today be subject to the same alternate test procedures as outlined in the CITY MULTI WR2 and WY Series waiver and the CITY MULTI S&L Class waiver, as applicable.

DOE issues this Decision and Order granting Mitsubishi a test procedure waiver for its additional indoor units to be used in its CITY MULTI WR2 and WY Series and CITY MULTI S&L Class multi-split heat pumps. As a condition of this waiver, Mitsubishi must use the alternate test procedure described below. This alternate test procedure is the same as the one that DOE approved for Mitsubishi in its waiver decisions in December 2009.

Alternate Test Procedure

The alternate test procedure permits Mitsubishi to designate a “tested combination” for each model of outdoor unit. The indoor units designated as part of the tested combination must meet specific requirements. For example, the tested combination must have between two and five indoor units so that the combination can be tested in available test facilities (for systems with nominal cooling capacities greater than 150,000 Btu/h, however, the number of indoor units may be as high as eight to allow testing of non-ducted indoor unit combinations). The tested combination must be tested according to the applicable DOE test procedures, as modified by the provisions of the alternate test procedure as set forth below.

The alternate DOE test procedure also allows Mitsubishi to represent the equipment's energy efficiency. These representations must fairly disclose the test results. The DOE test procedures, as modified by the alternate test procedure set forth in this Decision and Order, provide for efficiency rating of a non-tested combination in one of two ways: (1) at an energy efficiency level determined using a DOE-approved alternative rating method or (2) at the efficiency level of the tested combination utilizing the same outdoor unit.

For the reasons discussed above, DOE believes Mitsubishi's additional indoor units from its CITY MULTI WR2 and WY Series and CITY MULTI S&L Class multi-split equipment line cannot be tested using the procedures prescribed in 10 CFR 431.96 (ISO Standard 13256-1 (1998) and ARI Standard 340/360-2004) and incorporated by reference in DOE's regulations at 10 CFR 431.95(b)(2)-(3).

Consultations With Other Agencies

DOE consulted with the Federal Trade Commission (FTC) staff concerning the Mitsubishi petition for waiver. The FTC staff did not have any objections to issuing a waiver to Mitsubishi.

Conclusion

After careful consideration of all the materials submitted by Mitsubishi, the absence of any comments, and consultation with the FTC staff, it is ordered that:

(1) The petition for waiver filed by Mitsubishi (Case No. CAC-030) is hereby granted as set forth in the paragraphs below.

(2) Mitsubishi shall not be required to test or rate its additional indoor units of its CITY MULTI WR2 and WY and CITY MULTI S&L Class commercial package multi-split heat pumps listed below according to the existing test procedures under Table 1 of 10 CFR 431.96, which incorporates by reference the Air-Conditioning and Refrigeration Institute (ARI) Standard 340/360-2004 for the air-source CITY MULTI S&L Class equipment, and ISO Standard 13256-1998 for the water-source CITY MULTI WR2 and WY Series equipment. Instead, it shall be required to test and rate such equipment according to the alternate test procedure as set forth in paragraph (3).

PCFY-Series—Ceiling Suspended, with a capacity of 15 MBtu/h.

PEFY Series—Ceiling Concealed Ducted (Low Profile), with a capacity of 15 MBtu/h.

PKFY Series—Wall Mounted, with a capacity of 15 MBtu/h.

PLFY Series—4-Way Airflow Ceiling Cassette, with a capacity of 15 MBtu/h.

The PEFY-AF Series—100% outdoor air ventilation systems (Concealed ducted)—

PEFY-AF1200CFM/CFMR**, with a maximum outside air ventilation capability of 1200 CFM.

The PVFY Series—Vertical air handler (Concealed ducted), with capacities of 12/18/24/30/36/42/48/54 MBtu/h.

PWFY Series—Commercial Hot Water Heat Pump Indoor Units, with capacities of 36/72 MBtu/h and 36 MBtu/h with booster unit.

PEFY Series—Ceiling Concealed Ducted, with capacities of 06/08/12/15/18/24/27/30/36/48 MBtu/h.

PLFY Series—2′-by-2′ frame 4-Way Airflow Ceiling Cassette, with capacities of 8/12/15 MBtu/h.

(3) Alternate test procedure.

(A) Mitsubishi shall be required to test the basic models of CITY MULTI WR2 and WY Series and CITY MULTI S&L Class water and air-source outdoor units and compatible indoor units listed above and in combination with the basic models listed in the waivers granted on December 15, 2009 according to the test procedures for commercial central air conditioners and heat pumps prescribed under 10 CFR 431.96, except that Mitsubishi shall test a “tested combination” selected in accordance with the provisions of subparagraph (B). For every other system combination using the same outdoor unit as the tested combination, Mitsubishi shall make representations concerning the WR2 and WY Series and S&L Class CITY MULTI equipment covered in this interim waiver according to the provisions of subparagraph (C).

(B) Tested combination. The term tested combination means a sample basic model comprised of units that are production units, or are representative of production units, of the basic model being tested. For the purposes of this waiver, the tested combination shall have the following features:

(1) The basic model of a variable refrigerant flow system used as a tested combination shall consist of one outdoor unit, with one or more compressors, that is matched with between two and five indoor units. (For systems with nominal cooling capacities greater than 150,000 Btu/h, as many as eight indoor units may be used, so that non-ducted indoor unit combinations can also be tested.) For multi-split systems, each of these indoor units shall be designed for individual operation.

(2) The indoor units shall—

(i) Represent the highest sales model family or another indoor model family if the highest sales model family does not provide sufficient capacity (see ii);

(ii) Together, have a nominal cooling capacity that is between 95% and 105% of the nominal cooling capacity of the outdoor unit;

(iii) Not, individually, have a nominal cooling capacity that is greater than 50% of the nominal cooling capacity of the outdoor unit;

(iv) Operate at fan speeds that are consistent with the manufacturer's specifications; and

(v) Be subject to the same minimum external static pressure requirement while being configurable to produce the same static pressure at the exit of each outlet plenum when manifolded as per section 2.4.1 of 10 CFR Part 430, subpart B, appendix M.

(4) Representations. In making representations about the energy efficiency of its CITY MULTI WR2 and WY Series and CITY MULTI S&L Class multi-split heat pump products for compliance, marketing, or other purposes, Mitsubishi must fairly disclose the results of testing under the DOE test procedure in a manner consistent with the provisions outlined below:

(1) For CITY MULTI WR2 and WY Series and CITY MULTI S&L Class combinations tested in accordance with this alternate test procedure, Mitsubishi may make representations based on these test results.

(2) For CITY MULTI WR2 and WY Series and CITY MULTI S&L Class combinations that are not tested, Mitsubishi may make representations of non-tested combinations at the same energy efficiency level as the tested combination. The outdoor unit must be the one used in the tested combination. The representations must be based on the test results for the tested combination. The representations may also be determined by an Alternative Rating Method approved by DOE.

(5) This waiver shall remain in effect from the date this Decision and Order is issued, consistent with the provisions of 10 CFR 431.401(g).

(6) This waiver is issued on the condition that the statements, representations, and documentary materials provided by the petitioner are valid. DOE may revoke or modify the waiver at any time if it determines that the factual basis underlying the petition for waiver is incorrect, or the results from the alternate test procedure are unrepresentative of the basic models' true energy consumption characteristics.

(7) This waiver applies only to those basic models set out in Mitsubishi's petition for waiver.

(8) Grant of this waiver does not release a petitioner from the certification requirements set forth at 10 CFR Part 429.

Issued in Washington, DC, on July 5, 2011.
Kathleen B. Hogan,
Deputy Assistant Secretary for Energy Efficiency, Office of Technology Development, Energy Efficiency and Renewable Energy.

[FR Doc. 2011-17311 Filed 7-8-11; 8:45 am]

BILLING CODE 6450-01-P